DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 19, 2009 [FR Doc. 2009-0037, Vol. 74, No. 32, Pages 7737-7738].

DATES: Comments must be submitted on or before August 12, 2009.

FOR FURTHER INFORMATION CONTACT: Charlene Doyle, Contracting Officer's Technical Representative, Office of Regulatory Analysis and Evaluation, National Highway Traffic Safety Administration, 1200 New Jersey Ave., SE., NVS-431, Washington, DC 20590. Ms. Doyle's phone number is 202-366-1276 and her e-mail address is charlene.doyle@dot.gov.

SUPPLEMENTARY INFORMATION:

National Highway Traffic Safety Administration

Title: An In-Depth Examination of Pedestrian Involved Hit and Run Traffic Crashes.

OMB Number: 2127-New.

Type of Request: Request for public comment on proposed collection of information.

Abstract: The National Highway Traffic Safety Administration (NHTSA) was established to reduce the mounting number of deaths, injuries and economic losses resulting from motor vehicle crashes on the Nation's highways. As part of this statutory mandate, NHTSA is authorized to conduct research as a foundation for the development of motor vehicle standards and traffic safety programs. Between 1998 and 2007, of the more than 48,000 pedestrian deaths recorded within the United States, over 9,000 (19 percent) were caused by hit-and-run drivers. The data collected in this survey of drivers, along with police crash and court data from 10 counties, will be used to identify areas for targeting improvements, identify scenarios in which hit-and-run collisions are more likely to occur, and assist in the selection of cost-effective countermeasures to reduce the incidence of pedestrian hit-and-run crashes.

Affected Public: Individuals.

Estimated Total Annual Burden: 855 hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Authority: 44 U.S.C. 3506(c)(2)(A).

James F. Simons,
Director, Office of Regulatory Analysis and Evaluation.

[FR Doc. E9-16585 Filed 7-10-09; 8:45 am]

BILLING CODE 4910-59-P